DEPARTMENT OF AGRICULTURE

Forest Service

Butte County Resource Advisory Committee (RAC)

AGENCY: Forest Service, USDA.

ACTION: Notice of meeting.

SUMMARY: The Butte County Resource Advisory Committee (RAC) will hold a meeting on May 23, 2011 in Oroville, CA. The purpose of the meeting is to: Review Secure Rural Schools legislation, Sec. 204 (f) and discuss the 50% watershed restoration/road maintenance funding goal; discuss developing a process for providing partial funding; discuss requiring a maximum request amount; review and discuss examples of watershed/stream restoration and road maintenance projects along with monitoring projects such as GPS/GIS mapping; review funding Cycle 2 application and instructions and discuss improvements as necessary; review a timeline for Cycle 2 project funding and schedule out meeting(s).

The funding is made available under Title II provisions of the Secure Rural Schools and Community Self-Determination Act of 2000.

Date and Address: The meeting will take place from 6:30-9 p.m. at the Feather River Ranger District Office, 875 Mitchell Avenue, Oroville, CA.

FOR FURTHER INFORMATION CONTACT: (or for special needs): Lee Anne Schramel Taylor, Forest Coordinator, USDA, Plumas National Forest, P.O. Box 11500/159 Lawrence Street, Quincy, CA 95971; (530) 283-7850; or by E-MAIL eataylor@fs.fed.us. Other RAC information may be obtained at http://www.fs.usda.gov and http://www.fs.fed.us/srs.

Dated: April 29, 2011.
Matt Janowiak,
Acting Deputy Forest Supervisor.

[FR Doc. 2011-11079 Filed 5-5-11; 8:45 am]

BILLING CODE P